DEPARTMENT OF HOMELAND SECURITY

Coast Guard

[USCG-2008-0202]

Collection of Information under Review by Office of Management and Budget: OMB Control Numbers: 1625-0044, 1625-0045, and 1625-0060

AGENCY: Coast Guard, DHS.

ACTION: Thirty-day notice requesting comments.

SUMMARY: In compliance with the Paperwork Reduction Act of 1995, this request for comments announces that the U.S. Coast Guard is forwarding three Information Collection Requests (ICRs), abstracted below, to the Office of Information and Regulatory Affairs (OIRA) of the Office of Management and Budget (OMB) requesting an extension of their approval for the following collections of information: (1) 1625-0044, Outer Continental Shelf Activities—Title 33 CFR Subchapter N; (2) 1625-0045, Adequacy Certification for Reception Facilities and Advance Notices—33 CFR part 158; and (3) 1625-0060, Vapor Control Systems for Facilities and Tank Vessels. Our ICRs describe the information we seek to collect from the public. Review and comments by OIRA ensure we only impose paperwork burdens commensurate with our performance of duties.

DATES: Please submit comments on or before August 1, 2008.

ADDRESSES: You may submit comments identified by Coast Guard docket number [USCG-2008-0202] to the Docket Management Facility (DMF) at the U.S. Department of Transportation (DOT) or to OIRA. To avoid duplication, please submit your comments by only one of the following means:

(1) Electronic submission. (a) To Coast Guard docket at http://www.regulation.gov. (b) To OIRA by e-mail to: oira_submission@omb.eop.gov.

(2) Mail or Hand delivery. (a) DMF (M-30), DOT, West Building Ground Floor, Room W12-140, 1200 New Jersey Avenue SE, Washington, DC 20590-0001. Hand deliver between the hours of 9 a.m. and 5 p.m., Monday through Friday, except Federal holidays. The telephone number is 202-366-9329. (b) To OIRA, 725 17th Street NW., Washington, DC 20503, to the attention of the Desk Officer for the Coast Guard.

(3) Fax. (a) To DMF, 202-493-2251. (b) To OIRA at 202-395-6566. To ensure your comments are received in time, mark the fax to the attention of the Desk Officer for the Coast Guard.

The DMF maintains the public docket for this notice. Comments and material received from the public, as well as documents mentioned in this notice as being available in the docket, will become part of this docket and will be available for inspection or copying at room W12-140 on the West Building Ground Floor, 1200 New Jersey Avenue SE., Washington, DC, between 9 a.m. and 5 p.m., Monday through Friday, except Federal holidays. You may also find this docket on the Internet at http://www.regulations.gov.

Copies of the complete ICRs are available through this docket on the Internet at http://www.regulations.gov. Additionally, copies are available from Commandant (CG-611), U.S. Coast Guard Headquarters, (Attn: Mr. Arthur Requina), 2100 2nd Street SW, Washington, DC 20593-0001. The telephone number is 202-475-3523.

FOR FURTHER INFORMATION CONTACT: Mr. Arthur Requina, Office of Information Management, telephone 202-475-3523 or fax 202-475-3929, for questions on these documents. Contact Ms. Renee V. Wright, Program Manager, Docket Operations, 202-366-9826, for questions on the docket.

SUPPLEMENTARY INFORMATION: The Coast Guard invites comments on whether this information collection request should be granted based on it being necessary for the proper performance of Departmental functions. In particular, the Coast Guard would appreciate comments addressing: (1) The practical utility of the collections; (2) the accuracy of the estimated burden of the collections; (3) ways to enhance the quality, utility, and clarity of information subject to the collections; and (4) ways to minimize the burden of collections on respondents, including the use of automated collection techniques or other forms of information technology.

Comments to Coast Guard or OIRA must contain the OMB Control Number of the ICR. Comments to Coast Guard must contain the docket number of this request, [USCG 2008-0202]. For your comments to OIRA to be considered, it is best if they are received on or before the August 1, 2008.

Public participation and request for comments: We encourage you to respond to this request by submitting comments and related materials. We will post all comments received, without change, to http://www.regulations.gov. They will include any personal information you provide. We have an agreement with DOT to use their DMF. Please see the paragraph on DOT's “Privacy Act Policy” below.

Submitting comments: If you submit a comment, please include the docket number [USCG-2008-0202], indicate the specific section of the document to which each comment applies, providing a reason for each comment. We recommend you include your name, mailing address, an e-mail address, or other contact information in the body of your document so that we can contact you if we have questions regarding your submission. You may submit comments and material by electronic means, mail, fax, or delivery to the DMF at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them. The Coast Guard and OIRA will consider all comments and material received during the comment period.

Viewing comments and documents: Go to http://www.regulations.gov to view documents mentioned in this notice as being available in the docket. Enter the docket number [USCG-2008-0202] in the Search box, and click, “Go>>.” You may also visit the DMF in room W12-140 in the West Building, Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or by visiting http://DocketsInfo.dot.gov.

Previous Request for Comments

This request provides a 30-day comment period required by OIRA. The Coast Guard has published the 60-day notice (73 FR 19080, April 8, 2008) required by 44 U.S.C. 3506(c)(2). That notice elicited no comments.

Information Collection Request

1. Title: Outer Continental Shelf Activities—Title 33 CFR subchapter N.

OMB Control Number: 1625-0044.

Type of Request: Revision of a currently approved collection.

Affected Public: Operators of facilities and vessels engaged in activities on the Outer Continental Shelf (OCS).

Abstract: The Outer Continental Shelf Lands Act, as amended, authorizes the Coast Guard to promulgate and enforce regulations promoting the safety of life and property on OCS facilities. These regulations are located in 33 CFR chapter I subchapter N.

Burden Estimate: The estimated burden has increased from 5,867 hours to 6,233 hours a year.

2. Title: Adequacy Certification for Reception Facilities and Advance Notices—33 CFR part 158.

OMB Control Number: 1625-0045.

Type of Request: Revision of a currently approved collection.

Affected Public: Owners and operators of reception facilities, and owners/operators of vessels.

Abstract: Section 1905 of 33 U.S.C. gives the Coast Guard the authority to certify the adequacy of reception facilities in ports. Reception facilities are needed to receive waste from ships which may not be discharged at sea. Under regulations in 33 CFR part 158 there are discharge limitations for oil/oily waste, noxious liquid substances, plastics, and other garbage. This information collection is needed to evaluate the adequacy of reception facilities prior to issuance of a Certificate of Adequacy. Information for the advance notice ensures effective management of reception facilities and reduces the burden to facilities and ships.

Burden Estimate: The estimated burden has increased from 1,058 hours to 1,529 hours a year.

3. Title: Vapor Control Systems for Facilities and Tank Vessels.

OMB Control Number: 1625-0060.

Type of Request: Revision of a currently approved collection.

Affected Public: Respondents are owners/operators of facilities, tank vessels, and certifying entities.

Abstract: Section 1225 of 33 U.S.C. and 46 U.S.C. 3703 authorize the Coast Guard to establish regulations to promote the safety of life and property of facilities and vessels. Subpart E of 33 CFR part 154 contains Coast Guard regulations for vapor control systems (VCS) and certifying entities. The information is needed to ensure compliance with U.S. regulations for the design of facility and tank vessel VCS. The information is also needed to determine the qualifications of a certifying entity.

Burden Estimate: The estimated burden has increased from 1,145 hours to 2,724 hours a year.

Authority: The Paperwork Reduction Act of 1995; 44 U.S.C. chapter 35, as amended.

Dated: June 26, 2008.
D.T. Glenn,
Rear Admiral, U.S. Coast Guard, Assistant Commandant for Command, Control, Communications, Computers and Information Technology.

[FR Doc. E8-15035 Filed 7-1-08; 8:45 am]

BILLING CODE 4910-15-P